NUCLEAR REGULATORY COMMISSION

Inaccessible or Underground Power Cable Failures That Disable Accident Mitigation Systems or Cause Plant Transients

AGENCY: Nuclear Regulatory Commission.

ACTION: Notice of Issuance.

SUMMARY: The U.S. Nuclear Regulatory Commission (NRC) has issued Generic Letter (GL) 2007-01 to all holders of operating licenses for nuclear power reactors, except those who have permanently ceased operation and have certified that fuel has been removed from the reactor vessel. The NRC is issuing this GL to:

(1) Inform licensees that the failure of certain power cables can affect the functionality of multiple accident mitigation systems or cause plant transients,

(2) Inform licensees that in the absence of adequate monitoring of cable insulation, equipment could fail abruptly during service, causing plant transients or disabling accident mitigation systems,

(3) Ask licensees to provide information on the monitoring of inaccessible or underground electrical cables, and

Require that addressees submit a written response to the NRC in accordance with NRC regulations in Title 10 of the Code of Federal Regulations Section 50.54(f).

This Federal Register notice is available through the NRC's Agencywide Documents Access and Management System (ADAMS) under Accession Number ML070470317.

DATES: The GL was issued on February 7, 2007.

ADDRESSES: Not applicable.

FOR FURTHER INFORMATION CONTACT: Kimberley Corp, (301) 415-1091 or by email kar1@nrc.gov or Matthew McConnell at (301) 415-1597 or e-mail mxm4@nrc.gov.

SUPPLEMENTARY INFORMATION: NRC Generic Letter 2007-01 may be examined, and/or copied for a fee, at the NRC's Public Document Room (PDR) at One White Flint North, 11555 Rockville Pike (first floor), Rockville, Maryland. Publicly available records will be accessible electronically from the ADAMS Public Electronic Reading Room on the Internet at the NRC Web site, http://www.nrc.gov/NRC/ADAMS/index.html. The ADAMS number for the GL is ML070360665.

If you do not have access to ADAMS or if you have problems in accessing the documents in ADAMS, contact the NRC Public Document Room reference staff at 1-800-397-4209 or 301-415-4737 or by e-mail to pdr@nrc.gov.

Dated at Rockville, Maryland, this 20th day of February 2007.
For The Nuclear Regulatory Commission.
Theodore R. Quay,
Acting Director, Division of Policy and Rulemaking, Office of Nuclear Reactor Regulation.

[FR Doc. E7-3854 Filed 3-5-07; 8:45 am]

BILLING CODE 7590-01-P